DEPARTMENT OF DEFENSE

Department of the Navy

[Docket ID: USN-2013-0044]

Privacy Act of 1974; System of Records

AGENCY: Department of the Navy, DoD.

ACTION: Notice to alter a System of Records.

SUMMARY: The Department of the Navy proposes to alter the system of records, N01000-2, entitled “Naval Discharge Review Board Proceedings” in its inventory of record systems subject to the Privacy Act of 1974, as amended. This system will use selected information to defend the Department of the Navy in civil suits filed against it in the State and/or Federal courts system. This information will permit officials and employees of the Board to consider former member's applications for review of discharge or dismissal and any subsequent application by the member; to answer inquiries on behalf of or from the former member or counsel regarding the action taken in the former member's case.

DATES: This proposed action will be effective on January 6, 2014 unless comments are received which result in a contrary determination. Comments will be accepted on or before January 6, 2014.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/navy/index.html.

The proposed system report, as required by 5 U.S.C. 552a(r) of the Privacy Act of 1974, as amended, was submitted on October 21, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: December 3, 2013.
Aaron Siegel,
Alternate OSD Federal Register Liaison Officer, Department of Defense.

N01000-2

System name:

Naval Discharge Review Board Proceedings (January 29, 2007, 72 FR 3983).

Changes:

* * * * *

Categories of records in the system:

Delete entry and replace with “The file contains the former member's application for review of discharge or dismissal, any supporting documents submitted therewith, copies of correspondence between the former member or his counsel and the Naval Discharge Review Board and other correspondence concerning the case, and a summarized record of proceedings before the Board. Records include the individual's name, Social Security Number (SSN), and case docket number and may include the individual's home address and phone number, military personnel records, medical records, and investigation reports.”

Authority for maintenance of the system:

Delete entry and replace with “10 U.S.C. 5013, Secretary of the Navy; 10 U.S.C. 1553, Review of discharge or dismissal; DoD 6025.18-R, DoD Health Information Privacy Regulation; and E.O. 9397 (SSN), as amended.”

* * * * *

Routine uses of records maintained in the system, including categories of users and the purposes of such uses:

Delete entry and replace with “In addition to those disclosures generally permitted under 5 U.S.C. 552a(b) of the Privacy Act of 1974, as amended, these records contained therein may specifically be disclosed outside the DoD as a routine use pursuant to 5 U.S.C. 552a(b)(3) as follows:

The file is used by counsel for the former member, and by accredited representatives of veterans' organizations recognized by the Secretary, Department of Veterans Affairs under 38 U.S.C. 5902, Recognition of Representatives of Organizations and duly designated by the former member as his or her representative before the Naval Discharge Review Board.

Officials of the Department of Justice and the United States Attorney's offices assigned to the particular case.

The DoD Blanket Routine Uses that appear at the beginning of the Navy's compilation of system of records notices may apply to this system.

Note: This system of records contains Individually Identifiable Health Information. The DoD Health Information Privacy Regulation (DoD 6025.18-R) issued pursuant to the Health Insurance Portability and Accountability Act of 1996, applies to most such health information. DoD 6025-18-R may place additional procedural requirements on the uses and disclosures of such information beyond those found in the Privacy Act of 1974, as amended or mentioned in this system of records notice.”

* * * * *

Storage:

Delete entry and replace with “Paper file folders and electronic storage media.”

Retrievability:

Delete entry and replace with “Name, case docket number, and/or SSN.”

* * * * *

Notification procedure:

Delete entry and replace with “Individuals seeking to determine whether information about themselves is contained in this system should address written inquiries to the Director, Secretary of the Navy Council of Review Boards, Department of the Navy, Washington Navy Yard, 720 Kennon Street SE., Room 309, Washington, DC 20374-5023.

The signed request should contain name, SSN and case docket number if known.

The system manager may require an original signature or a notarized signature as a means of proving the identity of the individual requesting access to the records.”

Record access procedures:

Delete entry and replace with “Individuals seeking access to information about themselves contained in this system should address written inquiries to the Director, Secretary of the Navy Council of Review Boards, Department of the Navy, Washington Navy Yard, 720 Kennon Street SE., Room 309, Washington, DC 20374-5023.

The signed request should contain name, SSN and case docket number if known.

The system manager may require an original signature or a notarized signature as a means of proving the identity of the individual requesting access to the records.”

* * * * *

[FR Doc. 2013-29127 Filed 12-5-13; 8:45 am]

BILLING CODE 5001-06-P